DEPARTMENT OF HEALTH AND HUMAN SERVICES

National Institutes of Health

Center for Scientific Review; Amended Notice of Meeting

Notice is hereby given of a change in the meeting of the Biobehavioral Mechanisms of Emotion, Stress and Health Study Section, October 15, 2013, 08:00 a.m. to October 16, 2013, 05:00 p.m., Baltimore Marriott Inner Harbor at Camden Yards, 110 S. Eutaw Street, Baltimore, MD 21201, which was published in the Federal Register on September 16, 2013, 78 FR 56905.

The meeting will be held on December 5, 2013 to December 6, 2013 at the Royal Sonesta, 550 Light Street, Baltimore, MD 21202. The meeting time remains the same. The meeting is closed to the public.

Dated: October 29, 2013.
Melanie J. Gray,
Program Analyst, Office of Federal Advisory Committee Policy.

[FR Doc. 2013-26169 Filed 11-1-13; 8:45 am]

BILLING CODE 4140-01-P